DEPARTMENT OF ENERGY

Federal Energy Regulatory Commission

[Docket No. CP00-141-000]

Northwest Pipeline Corporation; Notice of Intent To Prepare an Environmental Assessment for the Proposed White River Replacement Project and Request for Comments on Environmental Issues

May 12, 2000.

The staff of the Federal Energy Regulatory Commission (FERC or Commission) will prepare an environmental assessment (EA) that will discuss the environmental impacts of the White River Replacement Project involving construction and operation of facilities by Northwest Pipeline Corporation (Northwest) in King County, Washington.¹ These facilities would consist of about 2000 feet of pipeline. This EA will be used by the Commission in its decision-making process to determine whether the project is in the public convenience and necessity.

¹ Northwest's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice northwest provided to landowners. This fact sheet addresses a number of typically asked questions, including the use of eminent domain and how to participate in the Commission's proceedings. It is available for viewing on the FERC Internet website (www.ferc.fed.us).

Summary of the Proposed Project

Northwest wants to ensure the long-term safety and integrity of its dual pipelines where they cross the meandering White River in King County, Washington, by replacing certain sections at a deeper depth. Northwest seeks authority to construct and operate 1900 feet each of its 26-inch-diameter and a 30-inch-diameter pipeline. Approximately 1600 feet of the abandonment and replacement would occur south of the river and 300 feet would occur north of the river. No construction activities would occur on these two pipelines in the active river as this section was previously buried at a sufficient depth. The replacement pipelines would be offset 100 feet west of the existing pipelines. Additionally, Northwest would remove a 665-foot length of 26-inch-diameter pipeline from the stream channel which was previously abandoned in-place. Northwest would construct a permanent stabilization structure on the north bank and a permanent habitat enhancement structure near the south bank.

The location of the project facilities is shown in appendix 1, figures 1-3.

Land Requirements for Construction

Replacement of the proposed facilities would require the use of 22.2 acres of land, including 6.0 acres of existing right-of-way (ROW), 10.7 acres of new ROW, 4.4 acres of industrial land located 3.3 miles to the west in the town of Auburn, and 1.1 acres of unimproved open land located 1400 feet north of the pipeline work area. The final permanent ROW would be 3.9 acres.

The EA Process

The National Environmental Policy Act (NEPA) requires the Commission to take into account the environmental impacts that could result from an action whenever it considers the issuance of a Certificate of Public Convenience and Necessity. NEPA also requires us to discover and address concerns the public may have had proposals. We call this “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

The EA will discuss impacts that could occur as a result of the construction and operation of the proposed project under these general headings:

• geology and soils

• water resources, fisheries, and wetlands

• vegetation and wildlife

• endangered and threatened species

• public safety

• land use

• cultural resources

• air quality and noise

• hazardous waste

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure our comments are considered, please carefully follow the instructions in the public participation section beginning on page 4.

Currently Identified Environmental Issues

We have already identified several issues that we think deserve attention based on a preliminary review of the proposed facilities and the environmental information provided by Northwest. This preliminary list of issues may be changed based on your comments and our analysis.

• Construction in a stream channel used by the federally threatened Puget Sound Chinook salmon and bull trout and the candidate species Coho salmon.

• Construction of fish habitat enhancement logjams near the south bank.

• Use of temporary and permanent ROW on the Muckleshoot Indian Reservation.

• Construction of a bank stabilization structure on the north side of the White River channel.

• Clearing of a 5.8-acre area of forest and scrub-shrub vegetation; and the disturbance of a 2-acre riparian area and a 0.1 acre area of wetland.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded.

• Send two copies of your letter: David P. Boergers, Secretary, Federal Energy Regulatory Commission, 888 First St., NW., Room 1A, Washington, DC 20426.

• Label one copy of the comments for the attention of Gas Group 2.

• Reference Docket No. DP00-141-000.

• Mail your comments so that they will be received in Washington, DC on or before June 12, 2000.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Acting Secretary.

[FR Doc. 00-12469 Filed 5-17-00; 8:45 am]

BILLING CODE 6717-01-M